ENVIRONMENTAL PROTECTION AGENCY

[FRL-7135-8]

Agency Information Collection Activities: Request for Comments on Seven Proposed Information Collection Requests (ICRs)

AGENCY: United States Environmental Protection Agency (EPA).

ACTION: Notice.

SUMMARY: In compliance with the Paperwork Reduction Act (44 U.S.C. 3501 et seq.), this document announces that EPA is planning to submit the seven continuing Information Collection Requests (ICRs) listed in Section A of this notice to the Office of Management and Budget (OMB). Before submitting the ICRs to OMB for review and approval, EPA is soliciting comments on specific aspects of the information collections as described at the beginning of the Supplementary Information provided in this notice.

DATES: Comments must be submitted on or before April 1, 2002.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling the identified information contact person listed in Section B under Supplementary Information.

FOR FURTHER INFORMATION CONTACT: For specific information on an individual ICR, contact the person listed in Section B under Supplementary Information.

SUPPLEMENTARY INFORMATION:

For All ICRs

An Agency may not conduct or sponsor, and a person is not required to respond to, a collection information unless it displays a currently valid OMB control number. The OMB control numbers for EPA's regulations are displayed in 40 CFR Part 9.

The EPA would like to solicit comments to:

(i) evaluate whether the proposed collection of information is necessary for the proper performance of the functions of the Agency, including whether the information will have practical utility;

(ii) evaluate the accuracy of the Agency's estimate of the burden of the proposed collection of information;

(iii) enhance the quality, utility, and clarity of the information to be collected; and

(iv) minimize the burden of the collection of information on those who respond through the use of automated, electronic, mechanical, or other forms of information technology.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In the absence of such information collection requirements, enforcement personnel would be unable to determine whether the standards are being met on a continuous basis, as required by the Clean Air Act. Consequently, these information collection requirements are mandatory, and the records required by New Source Performance Standards (NSPS) must be retained by the owner or operator for at least two years; records required by the National Emission Standards for Hazardous Air Pollutants (NESHAP) must be retained by the owner or operator for at least five years; and records required by the NESHAP Maximum Achievable Control Technology standards (NESHAP-MACT) must be retained by the owner or operator for at least five years. In general, the required information consists of emissions data and other information deemed not to be private. However, any information submitted to the Agency for which a claim of confidentiality is made will be safeguarded according to the Agency policies set forth in Title 40, Chapter 1, Part 2, Subpart B—Confidentiality of Business Information (See 40 CFR Part 2; 41 FR 36902, September 1, 1976; amended by 43 FR 39999, September 8, 1978; 43 FR 42251, September 28, 1978; 44 FR 17674, March 2, 1979).

The Agency computed the burden for each of the recordkeeping and reporting requirements applicable to the industry for the currently approved ICRs. Where applicable, the Agency identified specific tasks and made assumptions, while being consistent with the concept of the Paper Work Reduction Act.

Section A: List of ICRs To Be Submitted for OMB Approval

In compliance with the Paperwork Reduction Act (44 U.S.C. 3501 et seq.), this notice announces that EPA is planning to submit the following seven continuing ICRs to OMB.

(1) NESHAP Subpart BB: National Emission Standards for Hazardous Air Pollutants (NESHAP) for Benzene Emissions from Bulk Transfer Operations; EPA ICR Number 1154.06; OMB Number 2060-0182; expiration date May 31, 2002.

(2) NESHAP Subpart HHH: NESHAP—Oil and Natural Gas Transmission and Storage (40 CFR Part 63, Subpart HHH); EPA ICR Number 1789.03; OMB Number 2060-0418; expiration date July 31, 2002.

(3) NESHAP Subpart HH: NESHAP—Oil and Natural Gas Production; EPA ICR Number 1788.03; OMB Number 2060-0417; expiration date July 31, 2002.

(4) NSPS Subpart J: NSPS for Petroleum Refineries (Subpart J); EPA ICR Number 1054.08; OMB Number 2060-0022; expiration date August 31, 2002.

(5) NSPS Subpart GGG: NSPS for Petroleum Refineries (Subpart GGG); EPA ICR Number 0983.06; OMB Number 2060-0067; expiration date October 31, 2002.

(6) NESHAP-MACT Subpart PPP: NESHAP for Polyether Polyol Production; EPA ICR Number 1811.03; OMB Control Number 2060-0415; expiration date July 31, 2002.

(7) NSPS Subpart WWW: NSPS for Municipal Solid Waste Landfills (40 CFR Part 60, Subpart WWW); EPA ICR Number 1557.05; OMB Number 2060-0220; expiration date September 30, 2002.

Section B: Contact Person for Individual ICRs

(1) NESHAP Subpart BB: Benzene Emissions from Bulk Transfer Operations; Rafael Sanchez of the Office of Compliance at (202) 564-7028 or via E-mail at sanchez.rafael@epa.gov; EPA ICR Number 1154.06; OMB Number 2060-0182; expiration date May 31, 2002.

(2) NESHAP Subpart HHH: NESHAP—Oil and Natural Gas Transmission and Storage (40 CFR Part 63, Subpart HHH); Dan Chadwick of the Office of Compliance at (202)-564-7054 or via E-mail at chadwick.dan@epa.gov; EPA ICR Number 1789.03; OMB Number 2060-0418; expiration date July 31, 2002.

(3) NESHAP Subpart HH: NESHAP—Oil and Natural Gas Production; Dan Chadwick of the Office of Compliance at (202) 564-7054 or via E-mail at chadwick.dan@epa.gov; EPA ICR Number 1788.03; OMB Number 2060-0417; expiration date July 31, 2002.

(4) NSPS Subpart J: NSPS for Petroleum Refineries (Subpart J); Dan Chadwick of the Office of Compliance at (202) 564-7054 or via E-mail at chadwick.dan@epa.gov; EPA ICR Number 1054.08; OMB Number 2060-0022; expiration date August 31, 2002.

(5) NSPS Subpart GGG: NSPS for Petroleum Refineries (Subpart GGG); Dan Chadwick of the Office of Compliance at (202) 564-7054 or via E-mail at chadwick.dan@epa.gov; EPA ICR Number 0983.06; OMB Number 2060-0067; expiration date October 31, 2002.

(6) NESHAP-MACT Subpart PPP: NESHAP for Polyether Polyol Production; Joanne Berman of the Office of Compliance at (202) 564-7064, or via E-mail to berman.joanne@epa.gov; EPA ICR Number 1811.03; OMB Control Number 2060-0415; expiration date July 31, 2002.

(7) NSPS Subpart WWW: NSPS for Municipal Solid Waste Landfills (40 CFR Part 60, Subpart WWW); Tracy Back of the Office of Compliance at (202) 564-7076 or via E-mail at back.tracy@epa.gov; EPA ICR Number 1557.05; OMB Number 2060-0220, expiration date September 30, 2002.

Section C: Summaries of Individual ICRs

(1) NESHAP Subpart BB: National Emissions Standards for Hazardous Air Pollutants (NESHAP) for Benzene Emissions from Bulk Transfer Operations; EPA ICR Number 1154.06; OMB Number 2060-0182; expiration May 31, 2002.

Affected Entities: Entities potentially affected by this action are bulk transfer operations that have benzene emissions which are addressed by the standards at 40 CFR Part 61, Subpart BB. These standards apply to the total of all loading racks which transfer a liquid which is at least 70 percent benzene by weight into tank trucks, railcars, or marine vessels. It also addresses benzene production facilities and bulk terminals. Specifically exempt from this regulation are loading racks at which only the following are loaded: benzene-laden waste (addressed under 40 CFR Part 61, Subpart FF), gasoline, crude oil, natural gas liquids, petroleum distillates (e.g., fuel oil, diesel, or kerosene), or benzene-laden liquid from coke by-product recovery plants. In addition, any affected entity that loads only liquid containing less than 70 weight-percent benzene, or whose annual benzene loading is less than 1.3 million liters of 70 weight-percent or more benzene, is exempt from the regulatory requirements except for the recordkeeping and reporting requirements at Section 61.305(i).

Abstract: The Administrator has determined that emissions of benzene from bulk transfer operations cause or contribute to air pollution that may reasonably be anticipated to endanger public health or welfare. This information is being collected to assure compliance with 40 CFR Part 61, Subpart BB. Owners or operators of the affected facilities must make one-time only notifications to the Administrator. Owners or operators are also required to maintain records of the occurrence and duration of any startup, shutdown, or malfunction in the operation of an affected facility, or any period during which the monitoring system is inoperative. Semiannual reports of excess emissions are required. These notifications, reports, and records are essential in determining compliance.

Burden Statement: In the previously approved ICR, the estimated number of respondents for this information collection was 54 with 216 responses per year. The annual industry reporting and recordkeeping burden for this collection of information was 7,889 hours. On the average, each respondent reported 4 times per year, and 37 hours were spent preparing each response. There was no annual reporting and recordkeeping cost burden associated with continuous emission monitoring in the previous ICR; therefore, there are no capital, or operation and maintenance costs associated with this ICR.

(2) NESHAP Subpart HHH: NESHAP—Oil and Natural Gas Transmission and Storage (40 CFR Part 63, Subpart HHH); EPA ICR Number 1789.03; OMB Number 2060-0418; expiration July 31, 2002.

Affected Entities: Entities potentially affected by this action are owners and operators of facilities in the natural gas transmission and storage industry. Of the total estimated population of 2,200 facilities in this industry, it is estimated that 7 existing facilities will be subject to the provisions of 40 CFR Part 63, Subpart HHH.

Abstract: The Administrator has determined that the emissions from oil and gas transmission and storage cause or contribute to air pollution that may reasonably be anticipated to endanger public health or welfare. All existing sources must comply with the requirements of 40 CFR Part 63, Subpart HHH within three years of the effective date of the rule (June 17, 1999). All new sources must be in compliance with the natural gas transmission upon startup.

For sources constructed or reconstructed after the effective date, these standards require each source to submit both an initial notification and an application for approval of construction or reconstruction which enables enforcement personnel to identify the number of sources subject to the standards and to identify those sources that are already in compliance.

Respondents also are required to submit one-time reports of: (1) Start of construction for new facilities; (2) anticipated and actual start-up dates for new facilities; and (3) physical or operational changes to existing facilities.

These standards also require affected sources to submit a compliance status report. This report must be signed by a responsible company official who certifies its accuracy and certifies that the source has complied with the relevant standards. Performance test or design analysis results also are required in the compliance status report. The notification of compliance status must be submitted within 180 days after the compliance date for the affected source.

Affected sources are also required by the standards to install continuous monitoring systems (CMS) and to conduct a performance evaluation of the CMS. The results of the performance evaluation must be submitted to the EPA in the notification of compliance status report. Periodic reports documenting excess emissions and parameter monitoring exceedances must be submitted semi-annually when the CMS data are used to demonstrate compliance and the facility experiences excess emissions.

These standards also require owners or operators to develop startup, shutdown, and malfunction (SSM) plans, documenting procedures that will be taken in the case of an SSM. SSM reports also are required to be submitted to demonstrate that the actions taken by an owner or operator during an SSM comply with the SSM plan. When actions taken are consistent with the plan, reports are required semiannually. When actions taken are inconsistent with the plan, immediate reports are required.

Burden Statement: In the previously approved ICR, the estimated number of respondents for this information collection was 7 with 23 responses per year. The annual industry reporting and recordkeeping burden for this collection of information was 213 hours. On the average, each respondent reported 3.2 times per year, and 9 hours were spent preparing each response. There was no annual reporting and recordkeeping cost burden associated with continuous emission monitoring in the previous ICR; therefore, there are no capital, or operation and maintenance costs associated with this ICR.

(3) NESHAP Subpart HH: NESHAP—Oil and Natural Gas Production; EPA ICR Number 1788.03 OMB Number 2060-0417; expiration date July 31, 2002.

Affected Entities: Entities potentially affected by this action are owners and operators of facilities in the oil and natural gas production industry subject to 40 CFR Part 63, Subpart HH. Of the total estimated population of 120,000 facilities, it is estimated that 440 existing facilities will be subject to the provisions of these standards. In addition, it is estimated that 44 new facilities will be subject to the provisions of these standards over the next three years.

Abstract: The Administrator has determined that the emissions from oil and natural gas production cause or contribute to air pollution that may reasonably be anticipated to endanger public health or welfare. All existing sources must be in compliance with the requirements of 40 CFR Part 63, Subpart HH within three years of the effective date (June 17, 1999) of the rule.

These standards require an affected source with an initial startup date before the effective date to submit a one-time initial notification. This initial notification must be submitted within one year after the source becomes subject to these standards. For sources constructed or reconstructed after the effective date of the relevant standards, the source must submit an application for approval of construction or reconstruction. The application is required to contain information on the air pollution control technique that will be used for each hazardous air pollutant emission point.

Respondents are also required to submit one-time reports regarding the: (1) Initiation of construction for new facilities; (2) anticipated and actual start-up dates for new facilities; and (3) physical or operational changes to existing facilities.

These standards also require affected sources to submit a notification of compliance status. This notification must be signed by a responsible company official who certifies its accuracy and certifies that the source has complied with these standards. Performance test or design analysis results also are required to be included in the compliance status report. The notification of compliance status must be submitted within 180 days after the compliance date for the affected source.

In addition, those affected sources required by these standards to install a continuous monitoring system (CMS) may be required by the Administrator to conduct a performance evaluation of the CMS. If required, the results of the performance evaluation must be submitted to the EPA in the notification of compliance status report. Periodic reports documenting excess emissions and parameter monitoring exceedances are also required to be submitted to the Administrator semiannually when the CMS data is used to demonstrate compliance and the facility experiences excess emissions.

Owners and operators must submit semiannual reports of the monitoring results from the leak detection and repair program in accordance with the equipment leak section of 40 CFR Part 63, Subpart HH.

The oil and natural gas production NESHAP require owners or operators to develop startup, shutdown, and malfunction (SSM) plans. SSM reports that document the actions taken by an owner or operator during an SSM event to ensure compliance with the SSM plan must be submitted. When actions taken are consistent with the plan, reports are required semiannually. When actions taken are inconsistent with the plan, immediate reports are required.

Burden Statement: In the previously approved ICR, the estimated number of respondents for this information collection was 484 with 3,328 responses per year. The annual industry reporting and recordkeeping burden for this collection of information was 27,298 hours. On the average, each respondent reported 6.9 times per year, and 56 hours were spent preparing each response.

The annualized cost of capital equipment is $154,000. The operation and maintenance cost was estimated at $190,000 per year. The total annualized cost in the previous ICR was, therefore, $344,000.

(4) NSPS Subpart J: NSPS for Petroleum Refineries (Subpart J); EPA ICR Number 1054.08; OMB Number 2060-0022; expiration date August 31, 2002.

Affected Entities: Entities potentially affected by this action are owners or operators of petroleum refineries subject to 40 CFR Part 60, Subpart J.

Abstract: In the Administrator's judgement, particulate matter, carbon monoxide, and sulfur oxide emissions from petroleum refineries cause or contribute to air pollution that may reasonably be anticipated to endanger public health or welfare.

Owners or operators of the affected facilities must make one-time only notifications. Performance tests are also required to record the source's initial capability to comply with the emission standards and to ascertain the operating conditions under which compliance was achieved. The owner or operator of an affected facility is also required to install a continuous emission monitor (CEM) and record the emission levels of opacity, carbon monoxide, and sulfur dioxide or hydrogen sulfide, and report all periods of excess emissions. Owners or operators are also required to maintain records of the occurrence and duration of any startup, shutdown, or malfunction of an affected facility, or any period during which the CEM is inoperative. Quarterly reports of excess emissions are also required.

Burden Statement: In the previously approved ICR, the estimated number of respondents for this information collection was 130 with 197 responses per year. The annual industry reporting and recordkeeping burden for this collection of information was 19,045 hours. On the average, each respondent reported 1.5 times per year, and 97 hours were spent preparing each response. The annual reporting and recordkeeping cost burden was $123,000 per year which covers the cost of operation and maintenance of the CEM.

(5) NSPS Subpart GGG: NSPS for Petroleum Refineries (Subpart GGG); EPA ICR Number 0983.06; OMB Number 2060-0067; expiration date October 31, 2002.

Affected Entities: Entities potentially affected by this action are owners and operators of petroleum refineries subject 40 CFR Part 60, Subpart GGG.

Abstract: In the Administrator's judgement emissions from petroleum refineries cause or contribute to air pollution that may reasonably be anticipated to endanger public health or welfare. 40 CFR Part 60, Subpart GGG was proposed on January 4, 1983, and promulgated on May 30, 1984. The standards under 40 CFR Part 60, Subpart GG apply to volatile organic compound (VOC) leaks, compressors and other petroleum refinery equipment, such as valves, pumps, and flanges within a subject process unit, that has commenced construction, modification, or reconstruction after the proposed date.

Owners or operators of the affected facilities must make one-time only notifications. Owners or operators are also required to maintain records of the occurrence and duration of any startup, shutdown, or malfunction in the operation of an affected facility, or any period during which the monitoring system is inoperative.

40 CFR Part 60, Subpart GGG references the compliance requirements of 40 CFR Part 60, Subpart VV. Owners or operators are required to periodically (time period varies depending on equipment type and leak history) record information identifying leaking equipment, repair methods used to stop the leaks, and dates of repair. Semiannual reports are required to measure compliance with the standards of 40 CFR Part 60, Subpart VV as referenced by 40 CFR Part 60, Subpart GGG.

Burden Statement: In the previously approved ICR, the estimated number of respondents for this information collection was 48 with 108 responses per year. The annual industry reporting and recordkeeping burden for this collection of information was 6,137 hours. On the average, each respondent reported 2.3 times per year, and 57 hours were spent preparing each response. There was no annual reporting and recordkeeping cost burden associated with this information collection.

(6) NESHAP-MACT Subpart PPP: NESHAP for Polyether Polyol Production; EPA ICR Number 1811.03; OMB Control Number 2060-0415; expiration date July 31, 2002.

Affected Entities: Entities potentially affected by this action are those owners and operators of facilities which engage in the manufacturing of polyether polyol (which also include polyether mono-ols) that emit hazardous air pollutants (HAP) which are subject to 40 CFR Part 63, Subpart PPP.

Abstract: In the Administrator's judgement, the pollutants emitted from polyether polyols production cause or contribute significantly to air pollution that may reasonably be anticipated to endanger public health.

Owners or operators of polyether polyols production facilities, to which these standards apply, may choose one of the compliance options described in the standards, or install and monitor a specific control system that reduces HAP emissions to the compliance level. The respondents must comply with the general provisions at 40 CFR Part 63, Subpart A. These provisions include submitting the initial notification, providing a precompliance report, notification of compliance status, and semiannual reports. All respondents must submit an annual report of compliance for process vents, storage tanks, wastewater, and equipment leaks to the Agency that contains all the information requested at Section 63.1439 of these standards. Respondents must also submit semiannual reports containing the information at Section 63.1439 of these standards.

If the owner or operator identifies any deviation resulting from a known cause for which no federally-approved or promulgated exemption exists, the required compliance report must include all records that pertain to the periods during which such deviation occurred, as well as the following: The magnitude of each deviation; the reason for each deviation; a description of the corrective action taken for each deviation, including action taken to minimize each deviation and action taken to prevent recurrence; a copy of all quality assurance; and documentation addressing any changes in monitoring protocol.

Burden Statement: In the previously approved ICR, the estimated number of respondents for this information collection was 79 with 158 responses per year. The annual industry reporting and recordkeeping burden for this collection of information was 36,163 hours. On the average, each respondent reported 2 times per year, and 229 hours were spent preparing each response. The annual reporting and recordkeeping cost burden was $253,000 per year which reflected the capital/startup cost for monitoring devices.

(7) NSPS Subpart WWW: NSPS for Municipal Solid Waste Landfills (40 CFR Part 60, Subpart WWW); EPA ICR Number 1557.05; OMB Number 2060-0220; expiration date September 30, 2002.

Affected Entities: Entities potentially affected by this action are municipal solid waste landfills for which construction, modification or reconstruction commended on or after May 30, 1991 that are subject to 40 CFR Part 60, Subpart WWW.

Abstract: The Agency has determined that methane, carbon dioxide, and nonmethane organic gas compound emissions from municipal solid waste landfills cause or contribute to air pollution that may reasonably be anticipated to endanger public health or welfare. These standards require the installation of properly designed emission control equipment, and the proper operation and maintenance of this equipment. These standards rely on the capture and reduction of methane, carbon dioxide, and nonmethane organic gas compound emissions by combustion devices (boilers, internal combustion engines, or flares).

Owners and operators of the affected facilities described must make initial reports when a source becomes subject, conduct and report on performance tests, provide annual or periodic reports with regard to emission rates, report on design plan changes, report on equipment removal and closure, report on monitoring malfunctions and exceedances, and provide a plot map showing the location of all subject wells.

Burden Statement: In the previously approved ICR, the estimated number of respondents for this information collection was 172 with 299 responses per year. The annual industry reporting and recordkeeping burden for this collection of information was 3,379 hours. On the average, each respondent reported 1.7 times per year, and 11 hours were spent preparing each response.

The annualized cost of capital equipment is $79,000. The operation and maintenance costs were estimated at $2,000 per year. The total annualized cost requested is, therefore, $81,000.

Dated: January 23, 2002.
Michael M. Stahl,
Director, Office of Compliance.

[FR Doc. 02-2235 Filed 1-29-02; 8:45 am]

BILLING CODE 6560-50-U